DEPARTMENT OF LABOR

Employment and Training Administration (ETA)

Solicitation for Grant Application (SGA), Program Year 2006

Announcement Type: New.

Notice of availability of funds and solicitation for grant applications for Workforce Innovation in Regional Economic Development (WIRED) Initiative—Third Generation.

Funding Opportunity Number: SGA/DFA PY 06-09

Catalog of Federal Domestic Assistance Number: 17.268

DATES: The closing date for receipt of applications is April 13, 2007. A Webinar for prospective applicants will be held for this grant competition in February 2007. The date and access information for the Webinar will be posted on the U.S. Department of Labor's Employment and Training Administration (ETA) Web site at http://www.doleta.gov.

SUMMARY: In the 21st century global economy, talent development is a critical component in our nation's economic competitiveness. To stay ahead of global competition, we must identify strategies to further integrate workforce development, economic development, and education at the regional level—where companies, workers, researchers, entrepreneurs and governments come together to create a competitive advantage. Launched in February 2006, the Workforce Innovation in Regional Economic Development (WIRED) Initiative focuses on the role of talent development in driving regional economic competitiveness, job growth and new opportunities for American workers. The goal of WIRED is to expand employment and advancement opportunities for workers and catalyze the creation of high-skill and high-wage opportunities in regional economies. The WIRED Initiative is currently providing regions across the country with grant funding and ongoing technical assistance from ETA and a cadre of experts in order to help them achieve these goals.

To further support regions that are seeking to transform their economies and enhance their global competitiveness through talent development, ETA is announcing a new round of grants for the third generation of regions under the WIRED Initiative. The third generation is designed to fully engage local workforce investment boards in collaborative partnerships and transformational leadership within regional economies nationwide. The Department of Labor is making $65 million available for this new round of grants. This round of the WIRED Initiative will take place over the course of three years and the Department anticipates that individual grant awards will total $5 million over this period. Only Governors may apply on behalf of regions within their states or across state lines. Each Governor may submit up to two applications.

SUPPLEMENTARY INFORMATION: This solicitation provides background information on the WIRED Initiative and critical elements required of projects funded under the solicitation. It also describes the application submission requirements, the process that eligible applicants must use to apply for funds covered by this solicitation, and how grantees will be selected. This announcement consists of eight parts:

• Part I provides background information on the WIRED Initiative.

• Part II describes the size and nature of the anticipated awards.

• Part III describes the qualifications of an eligible applicant.

• Part IV provides information on the application and submission process.

• Part V explains the review process and rating criteria that will be used to evaluate applications.

• Part VI provides award administration information.

• Part VII contains ETA contact information.

• Part VIII addresses Office of Management and Budget information collection requirements.

I. Funding Opportunity Description

A. Background

The world is now witnessing one of the greatest economic transformations in history. Revolutions in technology and information have ushered in the era we know as globalization. This era is marked by tremendous advances in communications, travel, and trade, allowing individuals instant access to commerce from almost anywhere in the world. As a result, American businesses now compete not only with companies across the street, but also with companies around the globe. In the new global economy, talent development is a key factor in our nation's economic competitiveness.

Global competition is typically seen as a national challenge. In reality, regions are where companies, workers, researchers, entrepreneurs and governments come together to create a competitive advantage in the global marketplace. That advantage stems from the ability to transform new ideas and new knowledge into advanced, high quality products or services—in other words, to innovate.

Those regions that are successful in creating a competitive advantage demonstrate the ability to network “innovation assets”—people, institutions, capital and infrastructure—to generate growth and prosperity in the region's economy. These regions—such as San Diego, California; the Research Triangle in North Carolina; and the Greater Austin region of Texas—are successful precisely because they have connected three key elements: workforce skills and lifelong learning strategies, investment and entrepreneurship strategies, and regional infrastructure and economic development strategies.

While some regions of the country have thrived as a result of globalization, others have struggled to compete. For example, some regions are seeking to transform their economies because they have been dependent on a single industry that is not faring well in the global economy and others have been negatively affected by global trade. These regions are being forced to revitalize and reinvent themselves.

B. WIRED Initiative

To facilitate the growth of a regional economy requires attention to three critical elements. These elements were identified in a groundbreaking report, Innovate America, published by the Council on Competitiveness. The first element is infrastructure. This includes not only the traditional factors such as highways, bridges, and buildings, but also 21st century factors like access to broadband and wireless networks. The second is investment, including the availability of risk capital and the conditions that encourage the use of such capital.

The third critical element is talent. A region may possess a strong infrastructure and the investment resources for success, but without the talented men and women to use those elements for economic growth, they are meaningless. Talent can also drive the other two elements because investment capital is smart money and it will follow the talent while infrastructure can be built to support a growing economy. The WIRED initiative was launched in recognition that this third key element, talent, drives prosperity. In other words, the bedrock of a nation's competitiveness is a well educated and skilled workforce.

Many regions have made considerable progress in incorporating talent and skills development into their larger economic strategies and integrating workforce development, economic development, and education efforts into a comprehensive system that is both flexible and responsive to the needs of businesses and workers. However, ETA recognizes the importance of supporting regions that need additional technical and financial assistance to achieve these goals.

In response, ETA launched the WIRED Initiative in February 2006. The goal of the WIRED Initiative is to expand employment and advancement opportunities for American workers and catalyze the creation of high-skill and high-wage opportunities in the regional economies. ETA invested in 13 regional economies across the country—the first generation of WIRED regions—and is providing these regions with grant funding, technical assistance, access to a cadre of experts, and peer-to-peer learning opportunities.

An additional 13 regions—the second generation of WIRED regions—were invited to participate in the WIRED Initiative as “virtual” sites. These regions originally received small planning grants and the opportunity to be a part of the WIRED learning network. In January 2007, ETA announced that these regions would be provided with additional funding to support the strategies identified to transform their regional economies.

WIRED grantees have a unique opportunity to design and implement strategic approaches that will transform their regional economies and the systems that support those economies. In addition to financial support, ETA staff work closely with WIRED regions to provide technical assistance to support their development of innovative approaches to workforce development, economic development and education that go beyond traditional strategies in preparing workers to compete and succeed both within the United States and globally.

A key focus for WIRED regions is to implement strategies that will result in their workforce investment system becoming a key component of their region's economic development strategy. In this vision, elements of a transformed workforce system are:

• The workforce investment system operates as a talent development system; it is no longer defined as a job training system. Its goal is an educated and prepared workforce—on a U.S. or global standard.

• Workforce investment system formula funds are transformed, providing tuition assistance for post-secondary education for lifelong learning opportunities aligned with the region's talent development strategy.

• The workforce investment system no longer operates as an array of siloed programs and services.

• The workforce investment boards are structured and operate on a regional basis and are composed of regional strategic partners who drive investments, aligning spending with a regional economic vision for talent development.

• Economic and workforce development regions are aligned, and these regions adopt common and innovative policies across the workforce, education and economic development systems and structures that support talent development and the regional economy.

• The workforce investment system is agile enough to serve the innovation economy, recognizing the reality that ⅔ of all new jobs are created by small businesses.

• The workforce investment system actively collaborates with economic development, business, and education partners to gather and analyze a wide array of current and real time workforce and economic data in order to create new knowledge about regional economies and support strategic planning, routinely track economic conditions, measure outcomes, and benchmark economic competitiveness in the global marketplace.

C. Regional Approach

Economic regions do not typically correspond to geographic or political jurisdictions such as state, county, local workforce investment area, or municipal boundaries. Such boundaries do not always match labor market areas as evidenced by Philadelphia's tri-state area or the greater Kansas City area, among others. The WIRED Initiative focuses on labor market areas that are comprised of multiple jurisdictions within a state or across state borders, or non-contiguous regional economies. Factors that contribute to the formation of a region include economic interdependence, such as common industries or sectors; assets, such as human and financial capital and infrastructure; and networks, such as leadership or investor networks.

A key to success for the WIRED Initiative is the quality and strength of the regional partnership. The partnership should be a strong team composed of the organizations necessary to transform the regional economy, including workforce, civic, business, investor, education, government, entrepreneurial, and philanthropic organizations. To be able to drive economic transformation, the leaders involved in the partnership should be at the most senior level and have decision-making authority over their organization's activities and resources.

Governors are asked to submit an application on behalf of the regional partnership. State officials have a critical role to play in this effort by providing leadership and helping to facilitate an environment that is conducive to innovation. At the same time, regional leaders from a variety of fields must invest in this process and be dedicated to taking the necessary action steps.

D. Technical Assistance and Learning Opportunities

Regions in the WIRED Initiative have the opportunity to participate in a robust learning network focused on creating competitive advantages for regional economies in the global marketplace. ETA works closely with and provides technical assistance and support to regions throughout the implementation of the WIRED Initiative. Regions also have opportunities for peer-to-peer learning, most notably through WIRED Academies. The Academies are held three times per year and provide regions with opportunities to network and share their challenges and promising practices, as well as consult with experts from the workforce, education, and economic development communities; Federal departments and agencies; and the private sector. The regions also have access to an interactive Web site, the Collaborative Workspace, which facilitates the exchange of resources and information among the learning network. Additionally, ETA facilitates linkages between the WIRED regions and other key Federal agencies—such as the Departments of Commerce, Agriculture, Energy, Transportation, Interior, Defense and Education and the National Science Foundation—to further support WIRED regions in their efforts.

ETA is compiling resource tool kits, such as a regional assessment tool and an asset mapping tool, and promising practices regarding workforce and economic development strategies. These resources will be disseminated widely to the workforce investment system and economic development community, so that all regions, even those not selected to participate, will benefit from the WIRED Initiative.

II. Award Information

A. Award Amount

Each competitively selected project will be funded at approximately $5 million over a period of three years—$1 million in the first year, $2 million in the second year, and $2 million in the third year. However, this does not preclude funding decisions above or below this amount, based on the number and quality of submissions and the availability of funds. ETA anticipates awarding a total of $65 million in third generation WIRED grants over a three-year period.

B. Use of Funds

The WIRED Initiative supports the transformation of regional economies through the development and implementation of broad, comprehensive, innovative approaches to workforce development, economic development, and education. WIRED grants will be funded with H-1B fees as authorized under Sec. 414(c) of the American Competitiveness and Workforce Improvement Act of 1998 (Pub. L. 105-277, title IV), as amended by Pub. L. 108-447 ( codified at 29 U.S.C. 2916a). These funds are focused on the development of the workforce, and may be used to provide job training and related activities for workers to assist them in gaining the skills and competencies needed to obtain or upgrade employment in industries or economic sectors projected to experience significant growth. Funds may also be used to enhance the provision of job training services and information. Activities related to training may include: supporting talent development related to entrepreneurship; supporting talent development related to small business development; and purchasing equipment to train job seekers and workers for high-growth occupations. Activities to enhance training and information may include: development and implementation of model activities to build core competencies and train workers; identifying and disseminating career and skill information; developing or purchasing regional data tools or systems to deepen understanding of the regional economic landscape and labor market; and integrated regional planning such as increasing the integration of community and technical college activities with activities of businesses and the public workforce investment system to meet the training needs of business. Applicants are expected to leverage additional resources to support the transformational strategies and activities that are beyond those allowed by these funds.

C. Period of Performance

The period of performance will be 36 months from the date of execution of the grant documents. ETA may approve a request for a no-cost extension to grantees for an additional period of time based on the success of the project and other relevant factors.

III. Eligibility Information

A. Eligible Applicants

State Governors ¹ are the eligible applicants. The Governor must submit an application on behalf of a specific, defined multi-county region and a regional team of public and private partners. The application must clearly identify the state entity that will serve as the grant recipient, the state entity or local workforce investment board that will serve as the project's fiscal agent, and the sub-recipient that will have responsibility for administering the project on the Governor's behalf. The grant application form should contain the information of the state agency that is serving as the grant recipient.

¹ For the purpose of this application, the definition of State Governor includes the Governor of Puerto Rico and the Mayor of the District of Columbia.

Given that one of the significant goals for WIRED is to fully align the public workforce investments with a regional economic growth agenda, regional partnership teams must include a senior representative of the workforce investment system within the region as the lead, or co-lead with at least one other regional partner, for the region's WIRED grant activities. Examples of senior workforce system representatives include the chair or the executive director of a local workforce investment board or a senior representative of a regional workforce consortium.

In addition to workforce investment system partners, other mandatory partners of a regional partnership team must include senior leaders from the following entities:

• Education, including K-12, community colleges, and four year institutions within the region;

• Regional business leadership; and

• Economic development at the regional/local level.

Joint applications for regions that cross state lines will be accepted. All participating Governors of multi-state regions must jointly submit and sign the transmittal letter for the application. Applications for multi-state regions must identify the state entity that will be the grant recipient, the state agency or local workforce investment board that will serve as the project's fiscal agent, and the sub-recipient with responsibility for administering the project on the Governors' behalf.

Regional economies are typically defined as geographically contiguous areas. However, a proposal that makes an innovative case for a non-contiguous regional economy will be considered. Non-contiguous areas that only share similar circumstances will not be considered.

Each Governor is permitted to submit up to two applications. Governors may not submit applications for any of the 26 first and second generation regions that have already received a WIRED grant, as specified in Attachment A. However, a small overlap between the existing WIRED regions and an applying region will be permitted.

Applicants are not allowed to receive assistance in developing their applications from organizations and individuals under contract or subcontract with ETA for activities related to the WIRED Initiative, including M.H. West & Co., Inc; The Council for Adult & Experiential Learning; The Council on Competitiveness; and New Economy Strategies.

B. Leveraged Resources

Cost sharing or matching is not required for eligibility. However, aligning resources and leveraging funding is a key component of success in the WIRED Initiative. Therefore, applicants are expected to leverage significant resources at the Federal, state and regional levels to advance their proposed transformational strategies. While the failure to offer leveraged resources as a part of an application will not preclude consideration of the application, it will place the applicant at a significant competitive disadvantage since one of the evaluation criteria, worth 10 points, evaluates the quality of the leveraged resources. Leveraged resources are cash or in-kind contributions devoted to advancing the strategies described in the applicant's proposal. The identification of existing or planned initiatives within the region that can be aligned and integrated into the WIRED efforts to transform the regional economy are also considered to be leveraged resources.

Leveraged resources could come from a variety of sources including: public sector (e.g., Federal, state or local governments); non-profit sector (e.g., community organizations, faith-based organizations, or education and training institutions); private sector (e.g., businesses or industry associations); investor community (e.g., angel networks); philanthropic community; and the economic development community. Leveraged resources should not be included on the Standard Form 424-A budget form. These resources should be discussed in the technical proposal and the budget narrative.

C. Other Eligibility Requirements

1. Administrative Costs The administrative cost limit for each project will be negotiated at the time of award.

2. Distribution Rights By accepting the grant, selected applicants agree to give ETA the right to use and distribute all materials developed with grant funds such as training models, curriculum and technical assistance products. Materials developed with grant resources are in the public domain; therefore, ETA has the right to use, reuse, modify, and distribute all grant-funded materials and products to any interested party, including broad distribution to the public workforce investment system via the Internet or other means.

3. Legal Rules Pertaining to Inherently Religious Activities by Organizations that Receive Federal Financial Assistance The government is generally prohibited from providing direct Federal financial assistance for inherently religious activities. See 29 CFR part 2, subpart D. Grants under this solicitation may not be used for religious instruction, worship, prayer, proselytizing, or other inherently religious activities. Neutral, non-religious criteria that neither favor nor disfavor religion will be employed in the selection of grant recipients and must be employed by grantees in the selection of sub-recipients.

4. Orientation Grant recipients and sub-recipients designated by Governors to either administer the project or serve as the fiscal agent will be required to participate in an orientation session covering grant management issues.

IV. Application and Submission Information

A. Address to Request Application Package

This announcement includes all information and forms needed to apply for this funding opportunity.

B. Content and Form of Application Submission

The proposal must consist of two separate and distinct parts, Parts I and II. Applications that fail to adhere to the instructions in this section will be considered non-responsive and may not be given further consideration.

Part I of the proposal is the Cost Proposal and must include the following three items:

• The Standard Form (SF) 424, “Application for Federal Assistance” (available at http://www.whitehouse.gov/omb/grants/sf424.pdf). The SF-424 must clearly identify the state applicant and be signed by an individual with authority to enter into a grant agreement. Upon confirmation of an award, the individual signing the SF 424 on behalf of the applicant shall be considered the representative of the applicant.

• Dun and Bradstreet (DUNS) number. All applicants for Federal grant and funding opportunities are required to have a DUNS number. See OMB Notice of Final Policy Issuance, 68 FR 38402 (June 27, 2003). Applicants must supply their DUNS number on the SF-424. The DUNS number is a nine-digit identification number that uniquely identifies business entities. Obtaining a DUNS number is easy and there is no charge. To obtain a DUNS number, access this Web site: www.dnb.com/us/ or call 1-866-705-5711.

• The SF-424-A Budget Information Form (available at http://www.whitehouse.gov/omb/grants/sf424a.pdf). In preparing the Budget Information Form, the applicant must provide a concise narrative explanation to support the request. The budget narrative should break down the budget and leveraged resources by the activities specified in the technical proposal. Applicants may choose to identify the organizations that would receive funding for these activities, but this is not required. The narrative should also discuss precisely how the administrative costs support the project goals.

Please note that applicants that fail to provide a SF-424, SF-424-A and/or a budget narrative will be removed from consideration prior to the technical review process. Leveraged resources should not be listed on the SF-424 or SF-424-A Budget Information Form, but must be described in the budget narrative and in Part II of the proposal. The amount of Federal funding requested for the entire period of performance must be shown together on the SF-424 and SF-424-A Budget Information Form. Applicants are also encouraged, but not required, to submit OMB control number 1890-0014: Survey on Ensuring Equal Opportunity for Applicants, which can be found at http://www.doleta.gov/sga/forms.cfm.

Part II of the application is the technical proposal. The technical proposal must demonstrate the applicant's capabilities to plan and implement a demonstration project under the WIRED Initiative in accordance with the selection criteria. The Technical Proposal is limited to 25 double-spaced, single-sided, 8.5-inch-by-11-inch pages with 12-point font and 1-inch margins. Any pages over the 25-page limit will not be reviewed. In addition, the applicant may provide resumes, a staffing pattern, statistical information, and related materials in attachments which may not exceed 10 pages. Letters of commitment from partners may be submitted as attachments and will not count against the allowable maximum page totals. The applicant must reference any participating entities in the text of the Technical Proposal.

Except for the discussion of leveraged resources in response to the evaluation criteria, no cost data or reference to prices should be included in the technical proposal. The following information is required as part of the technical proposal:

• A table of contents listing the application sections.

• A 2-3 page abstract summarizing the proposed project and applicant profile information including: (1) applicant name; (2) project title; (3) identification of region; (4) overview of strategies; (5) regional partnership members; and (6) requested funding level.

• A timeline outlining project activities.

Please note that the table of contents, the abstract, and the timeline are not included in the 25-page limit. Applications that do not meet these requirements will not be considered.

Applications may be submitted electronically on www.grants.gov or in hard-copy via U.S. mail, professional delivery service, or hand delivery. These processes are described in further detail in Section IV(3). Applicants submitting proposals in hard-copy must submit an original signed application (including the SF 424) and one (1) “copy-ready” version free of bindings, staples or protruding tabs to ease in the reproduction of the proposal by DOL. Applicants submitting proposals in hard-copy are also requested, though not required, to provide an electronic copy of the proposal on CD-ROM.

C. Submission Dates and Times

The closing date for receipt of electronic and mailed applications under this announcement is April 13, 2007. Mailed applications must be received at the address below no later than 4:30 p.m. (Eastern Time) on that date, except as identified in the “Late Applications” paragraph below. Applications sent by e-mail, telegram, or facsimile (fax) will not be honored. No exceptions to the mailing and delivery requirements set forth in this notice will be granted.

Applicants may apply online at http://www.grants.gov by the date and time specified above. Any application received after the deadline will not be accepted. Please note that it may take several days to complete the “Get Started” step to register with Grants.gov. It is strongly recommended that those submitting applications through Grants.gov immediately initiate this step in order to avoid unexpected delays that could result in the disqualification of their application. If submitted electronically through http://www.grants.gov, applicants should save the application document as a .doc or .pdf file.

A Webinar for prospective applicants will be held for this grant competition in February 2007. The date and access information for the Webinar will be posted on ETA's Web site at http://www.doleta.gov.

D. Addresses

Mailed applications must be addressed to the U.S. Department of Labor, Employment and Training Administration, Division of Federal Assistance, Attention: Ms. Laura Patton Watson, Reference SGA/DFA PY 06-09, 200 Constitution Avenue, NW., Room N-4716, Washington, DC 20210. Applicants are advised that mail delivery in the Washington area may be delayed due to mail decontamination procedures. Hand-delivered proposals will be received at the above address.

E. Late Applications

Any application received after the exact date and time specified for receipt at the office designated in this notice will not be considered, unless it is received before awards are made, was properly addressed, and: (a) was sent by U.S. Postal Service registered or certified mail not later than the fifth calendar day before the date specified for receipt of applications (e.g., an application required to be received by the 20th of the month must be postmarked by the 15th of that month) or (b) was sent by overnight delivery service or submitted on Grants.gov to the addressee not later than one working day prior to the date specified for receipt of applications. It is highly recommended that online submissions be completed one working day prior to the date specified for receipt of applications to ensure that the applicant still has the option to submit by overnight delivery service in the event of any electronic submission problems. “Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Evidence of timely submission to an overnight delivery service must be demonstrated by equally reliable evidence created by an overnight delivery service indicating the time and place of receipt by the overnight delivery service. Failure to adhere to the above instructions will be a basis for a determination of non-responsiveness.

F. Intergovernmental Review

This funding opportunity is not subject to Executive Order (EO) 12372, “Intergovernmental Review of Federal Programs.”

G. Funding Restrictions

Determinations of allowable costs will be made in accordance with the applicable Federal cost principles as indicated in Part VI(2). Disallowed costs are those charges to a grant that the grantor agency or its representative determines not to be allowed in accordance with the applicable Federal cost principles or other conditions contained in the grant.

H. Other Submission Requirements

Applications may be withdrawn by written notice or telegram (including Mailgram) received at any time before an award is made. Applications may be withdrawn in person by the applicant or by an authorized representative thereof, if the representative signs a receipt for the proposal.

V. Application Review Information

A. Rating Criteria

This section identifies and describes the criteria that will be used to evaluate the proposals for the WIRED Initiative:

(1) Identification of Region (15 points)

(2) Regional Labor Market and Economic Landscape (10 points)

(3) Strength of Partnership (30 points)

(4) Strategies for Transformation (35 points)

(5) Leveraged Resources (10 points)

1. Identification of Region (15 points)

Applicants must define the region of focus in the proposal and demonstrate why the selection comprises a regional economy. Regional economies are typically defined as geographically contiguous areas. However, a proposal that makes an innovative case for a non-contiguous regional economy will be considered. Non-contiguous areas that only share similar circumstances will not be considered.

This discussion should include, but is not limited to, how the following factors contribute to the formation of the region:

• Economic interdependence (e.g., common industry or economic sectors).

• Assets (e.g., human capital, financial capital, research and development institutions, educational institutions, and infrastructure).

• Networks (e.g., leadership and investor networks). Applicants must also include a map of the region and a list of the counties and major cities in the region.

Assessment of this criterion will be based on the quality of the information presented and the extent to which the defined area represents a regional economy, as demonstrated by the applicant.

2. Regional Labor Market and Economic Landscape (10 points)

Through narrative discussion and data displays, the applicant must provide an overview of the labor market and economic landscape of the region that describes the conditions that are driving the need for transformation in the region. Discussion should include, but is not limited to, the following:

• Industries or economic sectors that are declining in the region, as well as those that are emerging or growing.

• Characteristics related to the regional labor force, such as skill and education levels, income levels, and commuting patterns.

• Indicators of impacted economic elements in the region, such as high unemployment rate, low average wages, and low levels of new job creation.

• Worker dislocations stemming from mass layoffs and/or natural disasters.

• The extent to which foreign trade has impacted the regional economy.

• Indicators of innovation such as entrepreneurial activity and small business development, investment capital, and patent data.

Assessment of this criterion will be based on the quality of the information presented and the extent of demonstrated need for regional economic transformation.

3. Strength of Partnership (30 points)

The applicant must demonstrate that the strategic partnership is a strong team of regional leaders. The partnership must be representative of the entire region and have the authority to drive a transformation strategy within the region. The partnership must include a senior representative of the workforce investment system within the region as the lead, or co-lead with at least one other regional partner, for the region's WIRED grant activities. Examples of senior workforce system representatives include the chair or the executive director of a local workforce investment board or a senior representative of a regional workforce consortium.

In addition to workforce investment system partners, other mandatory partners of a regional partnership team must include senior leaders from the following entities:

• Education, including K-12, community colleges, and four year institutions within the region;

• Regional business leadership; and

• Economic development at the regional/local level.

Additional recommended partners include: local elected officials; the philanthropic community; other education and training providers; business organizations such as chambers of commerce; seed and venture capital organizations or individuals; investor networks; entrepreneurs; and faith and community-based organizations.

The discussion must:

• Include a comprehensive list of the strategic partners that will be included in the WIRED Initiative and articulate each partner's role.

• Include the positions and/or titles of the individuals from each of the organizations that will be involved in the regional partnership.

• Demonstrate that integration or a high level of coordination already exists between partners. If a high level of integration or coordination does not exist, then the applicant must demonstrate that it has the capacity to quickly establish these links and discuss strategies for strengthening the partnership.

• Demonstrate that the administrative entity has the capacity to lead the regional partnership in implementing the WIRED Initiative. Discussion should include, but is not limited to, the administrative entity's leadership and staff capacity and experience implementing initiatives of this caliber.

Assessment of this criterion will be based on the comprehensiveness of the partnership, the degree to which each partner plays a committed role, and the capacity of the administrative entity to lead the regional partnership.

4. Strategies for Transformation (35 points)

The applicant must describe the strategies that will be undertaken by the regional partnership and explain how these strategies will transform the regional economy and how they will support the region's overall economic vision and goals. In addition, the applicant must describe how the strategies will transform the workforce development, economic development, and education systems in the region and result in more effective ways of collaboration and networking of assets and resources. Assessment of this criterion will be based on three areas: 1) strength of the strategies; 2) identification of targeted industries and economic sectors; and 3) discussion of goals.

Strategies. Applicants must describe how the strategies will be operationalized and how they will create a lasting impact on the region and build on and transform existing initiatives. Applicants must explain how the strategies will be aligned and integrated in order to unite the region around an economic growth agenda. In addition, in describing the strategies that would be undertaken with the requested funds, the applicant must demonstrate how the strategies will:

• Address the identified workforce and economic development challenges in the region.

• Increase integration and synergy among the workforce development, economic development and education systems.

• Increase opportunities for entrepreneurship and small business development and the capacity for innovation within both new and existing businesses.

• Create connections between research and business development.

• Build upon and align with current state and local strategic plans currently in place under the Workforce Investment Act, the Department of Commerce's economic development programs, the Department of Housing and Urban Development's community development programs, and other applicable federal programs.

Targeted High Growth Industries and Economic Sectors. Applicant must describe the high growth industries and economic sectors that will be the focus of the strategies. Applicant must explain why these industries and economic sectors have been chosen, how the strategies will support the continued growth of these industries, and how supporting these industries will contribute to the growth of the regional economy.

Goals. Applicants should demonstrate a results-oriented approach to managing and operating their grant. Therefore, applicants must describe the goals for each strategy and describe how WIRED grant resources will enable the partnership to accomplish its goals. Applicants should articulate clear outcomes for each strategy.

5. Leveraged Resources (10 points)

Applicants must clearly describe any funds and resources leveraged in support of the proposed strategies and demonstrate how these funds will be used to contribute to the goals of the WIRED Initiative. Leveraged resources are cash or in-kind contributions devoted to advancing the strategies described in the applicant's proposal. Existing or planned efforts within the region that can be aligned and integrated into the WIRED Initiative to transform the regional economy may also be considered to be leveraged resources. Important elements of the explanation include:

• Which partners have contributed leveraged resources and the amount of each contribution, including an itemized description of each cash or in-kind contribution.

• The quality of the leveraged resources, including the purpose of the funds and the extent to which each contribution will be used to further the goals of the initiative.

• Evidence, such as letters of commitment, that key partners have expressed a clear commitment to provide the contribution.

Leveraged resources could come from a variety of sources including: public sector (e.g., Federal, state or local governments); non-profit sector (e.g., community organizations, faith-based organizations, or education and training institutions); private sector (e.g., businesses or industry associations); investor community (e.g., angel networks); philanthropic community; and the economic development community.

Assessment of this criterion will be based on the extent to which the application fully describes the amount, commitment, nature, and quality of leveraged resources. Applications will be scored based on the degree to which the source and use of funds is clearly explained and the extent to which leveraged resources are fully integrated into the initiative to support grant outcomes.

B. Review and Selection Process

Applications for the WIRED Initiative will be accepted commencing on the date of publication of this announcement until the closing date and time. A technical review panel will carefully evaluate applications against the rating criteria described in Part V(1), which are based on the policy goals, priorities, and emphases set forth in this SGA. Up to 100 points may be awarded to an application, based on the Rating Criteria described in Part V(1). The panel results are advisory in nature and not binding on the Grant Officer. The Grant Officer may consider any information that comes to his or her attention.

The ranked scores will serve as the primary basis for selection of applications for funding, in conjunction with other factors such as urban, rural, and geographic balance; uniqueness and innovative aspects of the proposal; the availability of funds; and proposals that are most advantageous to the government. The government reserves the right to award grants with or without discussions or negotiations with applicants. Should a grant be awarded without negotiations, the award will be based on the applicant's signature on the SF-424, which constitutes a binding offer.

VI. Award Administrative Information

A. Award Notices

All award notifications will be posted on the ETA Web site at http://www.doleta.gov.

B. Administrative and National Policy Requirements—Administrative Program Requirements

All grantees will be subject to all applicable Federal laws (including provisions in appropriations law), regulations, and the applicable Office of Management and Budget (OMB) Circulars. The applicants selected under the SGA will be subject to the following administrative standards and provisions, if applicable:

• Workforce Investment Act—20 Code of Federal Regulations (CFR) part 667.200 (General Fiscal and Administrative Rules).

• Non-Profit Organizations—2 CFR part 230 (Cost Principles, formerly Office of Management and Budget (OMB) Circular A-122) and 29 CFR part 95 (Administrative Requirements).

• Educational Institutions—2 CFR part 220 (Cost Principles, formerly OMB Circular A-21) and 29 CFR part 95 (Administrative Requirements).

• State and Local Governments—2 CFR par 225 (Cost Principles, formerly OMB circular A-87) and 29 CFR part 97 (Administrative Requirements).

• All entities must comply with 29 CFR parts 93 and 98, and where applicable, 29 CFR parts 96 and 99.

• In accordance with Section 18 of the Lobbying Disclosure Act of 1995, Public Law 104-65 (2 U.S.C. 1611), non-profit entities incorporated under Internal Revenue Code Section 501(c)(4) that engage in lobbying activities will not be eligible for the receipt of Federal funds and grants.

• 29 CFR part 2, subpart D—Equal Treatment in Department of Labor Programs for Religious Organizations; Protection of Religious Liberty of Department of Labor Social Service Providers and Beneficiaries.

• 29 CFR part 30—Equal Employment Opportunity in Apprenticeship and Training.

• 29 CFR part 31—Nondiscrimination in Federally Assisted Programs of the Department of Labor—Effectuation of Title VI of the Civil Rights Act of 1964.

• 29 CFR part 32—Nondiscrimination on the Basis of Handicap in Programs and Activities Receiving or Benefiting from Federal Financial Assistance.

• 29 CFR part 33—Enforcement of Nondiscrimination on the Basis of Handicap in Programs or Activities Conducted by the Department of Labor.

• 29 CFR part 35—Nondiscrimination on the Basis of Age in Programs or Activities Receiving Federal Financial Assistance from the Department of Labor.

• 29 CFR part 36—Nondiscrimination on the Basis of Sex in Education Programs or Activities Receiving Federal Financial Assistance.

• 29 CFR part 37—Implementation of the Nondiscrimination and Equal Opportunity Provisions of the Workforce Investment Act of 1998 (WIA).

(Note: Except as specifically provided in this notice, ETA's acceptance of a proposal and award of Federal funds to sponsor any program(s) does not provide a waiver of any grant requirements and/or procedures. For example, the OMB Circulars require that an entity's procurement procedures must ensure that all procurement transactions are conducted, as much as practical, to provide open and free competition. If a proposal identifies a specific entity to provide services, then ETA's award does not provide the justification or basis to sole-source the procurement, i.e., avoid competition, unless the activity is regarded as the primary work of an official partner to the application.)

C. Reporting and Evaluation Requirements

1. Evaluation

ETA has undertaken a comprehensive evaluation of the WIRED Initiative. The evaluation is intended to: provide a thorough understanding of the implementation of WIRED strategies in the regions; learn about changes that occur in economic indicators such as job growth, average wage, tax base, reliance on public sector subsidies, and the unemployment rate; and ascertain to what extent these changes and other indicators of regional progress were influenced by WIRED activities. ETA will require that selected applicants participate in the evaluation of WIRED. Therefore, in applying for these grants, applicants agree to cooperate in this evaluation.

2. Performance Requirements

WIRED grantees are required to report outcomes for the Common Performance Measures, which measure entry into employment, retention in employment, and earnings. Additional information on ETA's Common Measures policy can be found in Training Employment Guidance Letter No. 17-05, Common Measures Policy for the Employment and Training Administration's (ETA) Performance Accountability System and Related Performance Issues (February 17, 2006), located on the ETA Web site at http://wdr.doleta.gov/directives/.

3. Quarterly Financial Reports

A Quarterly Financial Status Report (SF 269) is required until such time as all funds have been expended or the grant period has expired. Quarterly financial reports are due 30 days after the end of each calendar year quarter. Grantees must use ETA's Online Electronic Reporting System.

4. Quarterly Progress Reports

The grantee must submit a quarterly progress report to the designated Federal Project Officer within 30 days after the end of each calendar year quarter that provides a detailed account of activities undertaken during that quarter. The Department may require additional data elements to be collected and reported on either a regular basis or special request basis. Grantees must agree to meet the Department's reporting requirements.

The quarterly progress report must be in narrative form and must include:

(1) In-depth information on accomplishments including success stories, upcoming grant activities, and promising approaches and processes.

(2) Progress toward performance outcomes included in the grantee's statement of work, including updates on product, curricula, and training development.

(3) Challenges, barriers, or concerns regarding progress.

(4) Lessons learned in the areas of administration and management, implementation, partnership relationships, and other related areas.

Final Report. A draft final report must be submitted no later than 60 days prior to the expiration date of the grant. This report must summarize activities, employment outcomes, and related results, and should thoroughly document the solution approach. After responding to ETA's questions and comments on the draft report, three copies of the final report must be submitted no later than the grant expiration date. Grantees must agree to use a designated format specified by the Department to prepare the final report.

VII. Agency Contacts

Any technical questions regarding this SGA should be faxed to Ms. Laura Patton Watson, Chief of the Division of Federal Assistance, Fax number (202) 693-2705 (not a toll-free number). You must specifically address your fax to the attention of Ms. Laura Patton Watson and should include the following information: SGA/DFA PY 06-09, a contact name, fax, and telephone number. Answers to questions will be posted on ETA's Web site at http://www.doleta.gov during the SGA period.

For further information contact Ms. Laura Patton Watson, Chief of the Division of Federal Assistance, at (202) 693-3961 (not a toll-free number). This announcement is also being made available on http://www.grants.gov.

VIII. Other Information

OMB Information Collection No. 1205-0458. Expires September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, the OMB Desk Officer for ETA, Office of Management and Budget, Room 10235, Washington, DC 20503. PLEASE DO NOT RETURN YOUR COMPLETED APPLICATION TO THE OMB. SEND IT TO THE ADDRESS PROVIDED BY THE SPONSORING AGENCY.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential.

Signed at Washington, DC, this twelfth day of February, 2007.
Laura Patton Watson,
Grant Officer, Employment and Training Administration.

Attachment A: List of Regions Currently Receiving WIRED Grants

First Generation WIRED Regions

• Coastal Maine

• Northeast Pennsylvania

• Upstate New York

• Piedmont Triad North Carolina

• Mid-Michigan

• West Michigan

• Florida's Great Northwest

• Western Alabama and Eastern Mississippi

• North Central Indiana

• Greater Kansas City

• Denver Metro Region

• Central and Eastern Montana

• California Innovation Corridor

Second Generation WIRED Regions

• Central-Eastern Puerto Rico

• Southwestern Connecticut

• Northern New Jersey

• Delaware Valley

• Appalachian Ohio

• Southeastern Michigan

• Tennessee Valley

• Southwestern Indiana

• Southeastern Wisconsin

• Arkansas Delta

• Rio Grande Valley

• Wasatch Range

• Northern California

[FR Doc. E7-2996 Filed 2-21-07; 8:45 am]

BILLING CODE 4510-FN-P